ENVIRONMENTAL PROTECTION AGENCY

40 CFR Part 52

[EPA-R08-OAR-2016-0221; FRL-9948-88-Region 8]

Approval and Promulgation of State Implementation Plan Revisions to Permits, Rules and Approval Orders; Utah

AGENCY: Environmental Protection Agency.

ACTION: Proposed rule.

SUMMARY: The Environmental Protection Agency (EPA) is proposing to approve State Implementation Plan (SIP) revisions submitted by the State of Utah on February 10, 2012 and August 29, 2014. These submittals request SIP revisions to remove changes to the major source baseline date that were disapproved by the EPA on July 15, 2011. The submittals also address the EPA's February 6, 2014 disapproval of several permit rules related to the public availability of good engineering practice stack height demonstrations in the public comment process for an approval order, and the process for making emission reductions enforceable in an approval order. The EPA is taking this action in accordance with section 110 of the Clean Air Act (CAA).

DATES: Written comments must be received on or before August 18, 2016.

ADDRESSES: Submit your comments, identified by Docket ID No. EPA-R08-OAR-2016-0221, at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.,) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Jody Ostendorf, Air Program, U.S. Environmental Protection Agency (EPA), Region 8, Mail Code 8P-AR, 1595 Wynkoop Street, Denver, Colorado 80202-1129, (303) 312-7814, ostendorf.jody@epa.gov.

Incorporation by Reference

In this rule, the EPA is finalizing regulatory text that includes incorporation by reference. In accordance with requirements of 1 CFR 51.5, the EPA is proposing to incorporate by reference the Utah rules described in the amendments to 40 CFR part 52 set forth below. The EPA has made, and will continue to make, these materials generally available through www.regulations.gov and/or at the EPA Region 8 Office (please contact the person identified in the FOR FURTHER INFORMATION CONTACT section of this preamble for more information).

SUPPLEMENTARY INFORMATION:

In the “Rules and Regulations” section of this Federal Register, the EPA is approving the State's SIP revision as a direct final rule without prior proposal because the agency views this as a noncontroversial SIP revision and anticipates no adverse comments. A detailed rationale for the approval is set forth in the preamble to the direct final rule.

If the EPA receives no adverse comments, the EPA will not take further action on this proposed rule. If the EPA receives adverse comments, the EPA will withdraw the direct final rule and it will not take effect. The EPA will address all public comments in a subsequent final rule based on this proposed rule.

The EPA will not institute a second comment period on this action. Any parties interested in commenting must do so at this time. For further information, please see the ADDRESSES section of this notice.

Please note that if the EPA receives adverse comment on a distinct provision of this rule and if that provision may be severed from the remainder of the rule, the EPA may adopt as final those provisions of the rule that are not the subject of an adverse comment. See the information provided in the Direct Final action of the same title which is located in the Rules and Regulations Section of this Federal Register.

Authority: 42 U.S.C. 7401 et seq.

Dated: June 22, 2016.
Shaun L. McGrath,
Regional Administrator, Region 8.

[FR Doc. 2016-16960 Filed 7-18-16; 8:45 am]

BILLING CODE 6560-50-P